DEPARTMENT OF TRANSPORTATION

Federal Railroad Administration

Agency Request for Emergency Processing of Collections of Information Associated with Today's Publication of Solicitation of Applications and Notice of Funding Availability (NOFA)

AGENCY: Federal Railroad Administration, DOT.

ACTION: Notice.

SUMMARY: The Federal Railroad Administration (FRA) hereby gives notice that it has submitted the following information collection request (ICR) to the Office of Management and Budget (OMB) for Emergency Processing under the Paperwork Reduction Act of 1995 (Pub. L. 104-13, 44 U.S.C. 3501 et seq.). FRA requests that OMB authorize the collection of information identified below on or before November 21, 2008, for 180 days after the date of approval by OMB. A copy of this ICR, with applicable supporting documentation, may be obtained by calling FRA's Clearance Officers, Mr. Robert Brogan (tel. (202) 493-6292) or Ms. Nakia Jackson (tel. (202) 493-6073). These numbers are not toll-free. A copy of this ICR may also be obtained electronically by contacting Mr. Brogan at robert.brogan@dot.gov or by contacting Ms. Jackson at nakia.jackson@dot.gov. Comments and questions about the ICR identified below should be directed to the Office of Information and Regulatory Affairs (OIRA), Attn: FRA OMB Desk Officer, 725 17th St., NW., Washington, DC 20503. Comments and questions about the ICR identified below may also be transmitted electronically to OIRA at oira_submissions@omb.eop.gov.

DATES: Comments should be submitted as soon as possible upon publication of this notice in the Federal Register.

Title: Notice of Funding Availability and Solicitation of Applications for Grants under the Railroad Rehabilitation and Repair Grant Program.

OMB Control Number: 2130-New.

Frequency: One-time.

Affected Public: 32 States.

Form(s): SF-424.

Other Instruments: Collection of Information Associated with the NOFA Published in Today's Federal Register.

Estimated Total Annual Number of Responses: 10.0 Grant Applications (Paper/Electronic).

Estimated Total Annual Burden Hours: 4,875 hours.

Abstract: On September 30, 2008, President Bush signed Public Law 110-329, The Consolidated Security, Disaster Assistance, and Continuing Appropriations Act, 2009. As part of this Act, Congress provided $20 million in disaster relief funds to FRA to award to States in one or more grants for eligible projects related to repair and rehabilitation of Class II and Class III railroad infrastructure damaged by hurricanes, floods, and other natural disasters in counties for which the President declared a major disaster under title IV of the Robert T. Stafford Disaster relief and Emergency Assistance Act of 1974. These funds are available for rehabilitation and repairs of railroad right-of-way, bridges, signals, and other infrastructure which are part of the general railroad system of transportation and primarily used by railroads to move freight traffic. The Secretary may retain up to one-half of 1 percent of these funds for the oversight of the design and implementation of projects funded by grants under this Program. Funds provided under this grant program may constitute no more than 80 percent of the total cost of a selected project, with the remaining cost funded from other sources. The funding provided under these grants will be made available to grantees on a reimbursement basis. FRA anticipates awarding grants to multiple eligible participants. FRA may choose to award a grant or grants within the available funds in any amount. Funding made available through grants provided under this program, together with funding from other sources that is committed by a grantee as part of a grant agreement, must be sufficient to complete the funded project and achieve the anticipated rehabilitation and repairs to Class II and Class IIII railroads. FRA will begin accepting grant applications 10 days after publication of this Federal Register notice. Applications may be submitted until the earlier of December 31, 2008, or the date on which all available funds will have been committed under this program.

Authority: 44 U.S.C. 3501-3520.

Issued in Washington, DC on November 3, 2008.
D.J. Stadtler,
Director, Office of Financial Management, Federal Railroad Administration.

[FR Doc. E8-26477 Filed 11-5-08; 8:45 am]

BILLING CODE 4910-06-P